DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) approval of a new information collection. The Federal Register Notice with a 60-day comment period soliciting comments on the following collection of information was published on March 18, 2010, vol. 75, no. 52, page 13204. This research is important for establishing the scientific basis for air tour management policy decisions in the National Parks as mandated by the National Parks Air Tour Management Act of 2000.

DATES: Please submit comments by July 26, 2010.

FOR FURTHER INFORMATION CONTACT: Carla Scott at Carla.Scott@faa.gov.

SUPPLEMENTARY INFORMATION:

Federal Aviation Administration (FAA)

Title: Human Response to Aviation Noise in National Parks.

Type of Request: New collection.

OMB Control Number: 2120-XXXX.

Form(s): There are no FAA forms associated with this collection.

Affected Public: An estimated 16,800 Respondents.

Frequency: This information is collected one time per respondent.

Estimated Average Burden per Response: Approximately 15 minutes per response.

Estimated Annual Burden Hours: An estimated 4,200 hours annually.

Abstract: The data from this research are critically important for establishing the scientific basis for air tour management policy decisions in the National Parks as mandated by the National Parks Air Tour Management Act of 2000 (NPATMA). The research expands on previous aircraft noise dose-response work by using a wider variety of survey methods, by including different site types and visitor experiences from those previously measured, and by increasing site type replication.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 21, 2010.
Carla Scott,
FAA Information Collection Clearance Officer, IT Enterprises Business Services Division, AES-200.

[FR Doc. 2010-15422 Filed 6-24-10; 8:45 am]

BILLING CODE 4910-13-P